NATIONAL SCIENCE FOUNDATION

Agency Information Collection Activities: Comment Request

AGENCY: National Science Foundation.

ACTION: Submission for OMB review; comment request.

SUMMARY: The National Center for Science and Engineering Statistics (NCSES) within the National Science Foundation (NSF) has submitted the following information collection requirement to the Office of Management Budget (OMB) for review and clearance under the Paperwork Reduction Act of 1995. This is the second notice for public comment; the first was published in the Federal Register, and NCSES received five comments. NCSES is forwarding the proposed new submission to OMB for clearance simultaneously with the publication of this second notice.

DATES: Written comments and recommendations for the proposed information collection should be sent within 30 days of publication of this notice to http://www.reginfo.gov/public/do/PRAMain. Find this particular information collection by selecting “Currently under 30-day Review—Open for Public Comments” or by using the search function.

FOR FURTHER INFORMATION CONTACT: Suzanne H. Plimpton, Reports Clearance Officer, National Science Foundation, 2415 Eisenhower Avenue, Suite 18200, Alexandria, VA 22314 or send email to splimpto@nsf.gov. Individuals who use a telecommunications device for the deaf (TDD) may call the Federal Information Relay Service (FIRS) at 1-800-877-8339, which is accessible 24 hours a day, 7 days a week, 365 days a year (including Federal holidays). Comments regarding this information collection are best assured of having their full effect if received within 30 days of this notification. Copies of the submission may be obtained by calling 703-292-7556.

NCSES may not conduct or sponsor a collection of information unless the collection of information displays a currently valid OMB control number and the agency informs potential persons who are respond to the collection of the information that such persons are not required to respond to the collection of information unless it displays a currently valid OMB control number.

SUPPLEMENTARY INFORMATION: Comments: As required by 5 CFR 1320.8(d), comments on the information collection activities as part of this study were solicited through the publication of a 60-Day Notice in the Federal Register on April 16, 2020, at 85 FR 21271. We received five (5) comments to the NTEWS (version dated 6/2/2020).

In sum, each of the five comments expressed strong support for the collection and offered suggestions for modified or additional survey content, such as collecting additional details about work credentials or collecting data in a way that would better enable international comparisons. NCSES responded to each commenter individually, providing background information about the survey, its goals for this initial survey cycle, and the feasibility of adding new content. Some of the commenters' suggestions will be incorporated into the non-production bridge panel for this initial survey cycle. NSF is proceeding with the information collection request.

Title of Collection: The National Training, Education, and Workforce Survey.

OMB Control Number: 3145-NEW.

Summary of Collection: The National Center for Science and Engineering Statistics (NCSES) within the National Science Foundation (NSF) requests a three-year approval for a new collection referred to as the 2022 National Training, Education, and Workforce Survey (NTEWS). The 2022 NTEWS will be a voluntary data collection sponsored by NCSES and cosponsored by the National Center for Education Statistics (NCES) within the U.S. Department of Education. The content of the 2022 NTEWS builds upon NCES's former federal survey, the 2016 Adult Training and Education Survey (ATES). This collection serves to measure and understand two research concepts that are of national interest: (1) the education, training, and career pathways of skilled technical workers, and (2) the prevalence and interplay of education (postsecondary degrees and certificates), work credentials (certifications and licenses), and work experience programs among American workers.

Established within NSF by the America COMPETES Reauthorization Act of 2010 § 505, codified in the NSF Act of 1950, as amended, NCSES serves as a central Federal clearinghouse for the collection, interpretation, analysis, and dissemination of objective data on science, engineering, technology, and research and development for use by practitioners, researchers, policymakers, and the public.

As the initial NTEWS, the 2022 data collection effort will serve as the baseline cycle for a planned biennial, rotating panel design. Respondents will have the option to complete the survey by web, paper, or computer-assisted telephone interviewing (CATI). NCSES plans to incorporate a couple of methodological experiments to examine response mode and incentive options in the initial administration.

The U.S. Census Bureau will serve as the Federal data collection contractor on behalf of NCSES and NCES. The NTEWS data will be protected under the applicable Census Bureau confidentiality statutes.

Use of the information: NCSES and NCES intend to publish national estimates from the 2022 NTEWS and use the results to inform the next survey cycle. NCSES plans to use the NTEWS data for the two congressionally mandated biennial reports: Women, Minorities, and Persons with Disabilities in Science and Engineering and Science and Engineering Indicators. NCES plans to release a special-topic statistical report on the status of educational and professional credentials in the United States. Also, a public release file of collected data, designed to protect respondent confidentiality, will be made available to policymakers, researchers, and the public on the internet.

Expected Respondents: NCSES expects an estimated total of 30,565 respondents. With three samples in the 2022 NTEWS collection, the expected number of respondents for each sample is 27,000 respondents from production, 3,125 respondents from the bridge panel, and 440 respondents from the seeded sample. NCSES will select adults ages 16-75 (inclusive) and not enrolled in high school. The production will select its sample from the 2018 American Community Survey, collected by the U.S. Census Bureau. The bridge panel (non-production because data cannot generate official statistics) will select its sample from a commercial list. Finally, the seeded sample (non-production because data will not be released to the public but will be used for NCSES and NCES analysis for future postsecondary certificates measurement improvements) will be chosen from a list of recent postsecondary certificate awardees from four postsecondary community/technical colleges or systems. The NTEWS sample design will meet the needs of both NCSES and NCES by providing coverage of the workforce-eligible adult population and including an oversample of adults who are in skilled technical occupations.

Estimate of Burden: The expected response rate for the overall NTEWS sample is 62 percent, or 30,565 respondents. The amount of time to complete the survey may vary depending on an individual's circumstances and the collection mode (web, paper, or telephone). NCSES estimates an average completion time of 15 minutes. NCSES estimates that the average annual burden for the initial NTEWS for the three-year OMB clearance period will be no more than 2,547 hours [(30,565 completed cases × 15 minutes)/3 years].

Updates: A few changes occurred between the publication of the first FRN and this second FRN. The first FRN did not include the estimated burden of the non-production seeded sample and bridge panel studies, which are reflected in this FRN. The estimated burden for the production sample in the first FRN approximated the average annual burden for the initial NTEWS throughout the three-year OMB clearance period to be 2,084 hours [(25,000 completed cases × 15 minutes)/3 years]. NCSES increased the production sample size from 42,000 to 43,200 to meet precision requirements for NTEWS estimates. This FRN contains revised burden information.

Comments: Comments are invited on (a) aspects of the data collection effort (including, but not limited to, the following: the availability of administrative and supplemental sources of data on the skilled technical workforce, survey content, contact strategy, and statistical methods); (b) whether the proposed collection of information is necessary for the proper performance of the functions of NCSES, including whether the information shall have practical utility; (c) the accuracy of the NCSES's estimate of the burden of the proposed collection of information; (d) ways to enhance the quality, use, and clarity of the information on respondents, including through the use of automated collection techniques or other forms of information technology; and (e) ways to minimize the burden of the collection of information on those who are to respond, including through the use of appropriate automated, electronic, mechanical, or other technological collection techniques or other forms of information technology.

Dated: September 27, 2021.
Suzanne H. Plimpton,
Reports Clearance Officer, National Science Foundation.

[FR Doc. 2021-21254 Filed 9-29-21; 8:45 am]

BILLING CODE 7555-01-P